DEPARTMENT OF TRANSPORTATION

Federal Aviation Administration

14 CFR Part 71

[Docket No. FAA-2015-2219; Airspace Docket No. 15-AWA-5]

RIN 2120-AA66

Amendment of Class B Airspace; New Orleans, LA

AGENCY: Federal Aviation Administration (FAA), DOT.

ACTION: Final rule, technical amendment.

SUMMARY: This action amends Class B airspace at the Louis Armstrong New Orleans International Airport, New Orleans, LA, by removing reference to the Instrument Landing System (ILS) Runway 10 Outer Compass Locator (LOM) from the text header information and surface area (Area A) description and replacing it in the Area A description with the geographic latitude/longitude coordinates of the LOM. This change is necessary due to the planned decommissioning of the LOM navigation aid. The Louis Armstrong New Orleans International Airport and New Orleans Naval Air Station Joint Reserve Base (Alvin Callender Field) airport names and airport reference point (ARP) geographic coordinates are also updated. The St. Charles and Lakefront airports, used in the Class B description, are added in the legal description text header information, as well as, the Harvey VHF Omnidirectional Range/Tactical Air Navigation (VORTAC) navigation aid. Lastly, general editing of the legal description is accomplished to improve clarity. These changes are editorial only to match existing FAA aeronautical database information and do not alter the current charted boundaries or altitudes or the ATC procedures for the New Orleans Class B airspace area.

DATES: Effective Date: 0901 UTC, November 12, 2015. The Director of the Federal Register approves this incorporation by reference action under 1 CFR part 51, subject to the annual revision of FAA Order 7400.9 and publication of conforming amendments.

ADDRESSES: FAA Order 7400.9Y, Airspace Designations and Reporting Points, and subsequent amendments can be viewed online at http://www.faa.gov/air_traffic/publications/. The Order is also available for inspection at the National Archives and Records Administration (NARA). For information on the availability of this material at NARA, call (202) 741-6030, or go to http://www.archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: (202) 267-8783.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the U.S. Code. Subtitle 1, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class B airspace at the Louis Armstrong New Orleans International Airport, New Orleans, LA.

History

The New Orleans Class B airspace area was established as a Terminal Control Area (TCA) on July 17, 1975 (40 FR 20269, May 9, 1975). In 1993, as part of the Airspace Reclassification Final Rule (56 FR 65638, December 17, 1991), the term “terminal control area” was replace by “Class B airspace area.” Because there was no VHF Omnidirectional Range (VOR) navigation aid located on the Louis Armstrong New Orleans International Airport (formerly New Orleans International Airport-Moisant Field), the Class B airspace area was designed using the ARP latitude/longitude coordinates as the center point. When established, the surface area (Area A) included an extension, described using an arc around the ILS Runway 10 LOM. In October 2015, the ILS Runway 10 LOM is being decommissioned because it cannot be cost-effectively maintained any longer. To retain the existing charted boundaries of the New Orleans Class B airspace surface area, the FAA is using the geographic latitude/longitude coordinates of the ILS Runway 10 LOM being decommissioned to describe the Class B airspace Area A extension. All references to the LOM in the New Orleans Class B airspace description are being removed and reference to the LOM in the Area A description is being replaced by a point using the geographic latitude/longitude coordinates of the ILS Runway 10 LOM.

In preparation of updating the New Orleans Class B airspace description, the FAA reviewed the aeronautical database and determined that the New Orleans International Airport-Moisant Field name had changed to the Louis Armstrong New Orleans International Airport, the NAS New Orleans-Alvin Callender Field name had changed to the New Orleans Naval Air Station Joint Reserve Base (Alvin Callender Field), and the respective ARP geographic coordinates for both had also changed. Further, the Class B airspace area legal description used the St. Charles and Lakefront airports in the Area C and Area D descriptions, respectively, and the Harvey VORTAC in the Area C description, but the airports and VORTAC information was omitted from the Class B description text header. This action makes the required edits above. Lastly, the descriptions have been edited to eliminate confusing wording and improve clarity.

The FAA is taking this action so that the current boundaries of the New Orleans Class B airspace area are not affected by the decommissioning of the ILS Runway 10 LOM.

Availability and Summary of Documents for Incorporation by Reference

This document amends FAA Order 7400.9Y, airspace Designations and Reporting Points, dated August 6, 2014, and effective September 15, 2014. FAA Order 7400.9Y is publicly available as listed in the ADDRESSES section of this final rule. FAA Order 7400.9Y lists Class A, B, C, D, and E airspace areas, air traffic service routes, and reporting points

The Rule

The FAA is amending Title 14 of the Code of Federal Regulations (14 CFR) part 71 by amending the New Orleans Class B airspace legal description for the Louis Armstrong New Orleans International Airport, New Orleans, LA. This action removes all references to the “ILS Runway 10 Outer Compass Locator” and replaces it in the Area A description with a point located at the same latitude/longitude geographic coordinates of the LOM. This rule updates the New Orleans International Airport-Moisant Field name to the Louis Armstrong New Orleans International Airport, and the ARP Geographic coordinates from “lat. 29°59′36″ N., long. 90°15′28″ W.” to “lat. 29°59′36″ N., long. 90°15′33″ W.” Additionally, it updates the NAS New Orleans-Alvin Callender Field name to New Orleans Naval Air Station Joint Reserve Base (Alvin Callender Field), and the ARP geographic coordinates from “lat. 29°49′31″ N., long. 90°02′06″ W.” to “lat. 29°49′38″ N., long. 90°01′36″ W.” This action also adds the St. Charles and Lakefront Airports and their associated ARP geographic coordinates, as well as the Harvey VORTAC and its geographic coordinates to the legal description text header information. Lastly, the Class B airspace description is edited to remove confusing wording and improve clarity.

Regulatory Notices and Analyses

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Since this action merely involves editorial changes in the legal description of the New Orleans Class B airspace area, and does not involve a change in the boundaries or altitudes or operating requirements of that airspace, notice and public procedure under 5 U.S.C. 553(b) are unnecessary.

Environmental Review

The FAA has determined that this action qualifies for categorical exclusion under the National Environmental Policy Act in accordance with 311a, FAA Order 1050.1E, “Environmental Impacts: Policies and Procedures.” This airspace action is an editorial change only and is not expected to cause any potentially significant environmental impacts, and no extraordinary circumstances exist that warrant preparation of an environmental assessment.

List of Subjects in 14 CFR Part 71

Airspace, Incorporation by reference, Navigation (Air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120, E.O. 10854, 24 FR 9565, 3 CFR, 1959-1963 Comp., p. 389.

§ 71.1 [Amended]

2. The incorporation by reference in 14 CFR 71.1 of FAA Order 7400.9Y, Airspace Designations and Reporting Points, dated August 6, 2014, and effective September 15, 2014, is amended as follows:

Paragraph 3000 Subpart B—Class B Airspace.

* * * * *

ASW LA B New Orleans, LA

Louis Armstrong New Orleans International Airport (Primary Airport)

(Lat. 29°59′36″ N., long. 90°15′33″ W.)

New Orleans Naval Air Station Joint Reserve Base (Alvin Callender Field), LA

(Lat. 29°49′38″ N., long. 90°01′36″ W.)

Ama, St. Charles Airport, LA (pvt)

(Lat. 29°57′07″ N., long. 90°17′10″ W.)

New Orleans, Lakefront Airport, LA

(Lat. 30°02′33″ N., long. 90°01′42″ W.)

Harvey VORTAC

(Lat. 29°51′01″ N., long. 90°00′11″ W.)

Boundaries.

Area A. That airspace extending upward from the surface to and including 7,000 feet MSL within a 7-mile radius of the Louis Armstrong New Orleans International Airport and within a 1.5-mile radius of a point located at lat. 30°01′31″ N., long. 90°24′00″ W., excluding that airspace north of the south shore of Lake Pontchartrain, that airspace within and underlying Area C described hereinafter, and that airspace 0.5 mile either side of a line extending from lat. 30°01′10″ N., long. 90°07′47″ W. to lat. 29°59′31″ N., long. 90°15′37″ W. to lat. 30°03′37″ N., long. 90°22′10″ W.

Area B. That airspace extending upward from 600 feet MSL to and including 7,000 feet MSL north of the south shore of Lake Pontchartrain within a 7-mile radius of the Louis Armstrong New Orleans International Airport, excluding that airspace 0.5 mile either side of a line extending from lat. 30°01′10″ N., long. 90°07′47″ W. to lat. 29°59′31″ N., long. 90°15′37″ W. to lat. 30°03′37″ N., long. 90°22′10″ W.

Area C. That airspace extending upward from 1,000 feet MSL to and including 7,000 feet MSL within an area bounded by a line beginning 7 miles southwest of the Louis Armstrong New Orleans International Airport on the north shore of the Mississippi River; thence east along the Mississippi River north shore to a point 0.5 mile east of and parallel to the St. Charles Airport runway 17/35 extended centerline; thence southeast along a line 0.5 miles east of and parallel to the St. Charles Airport runway 17/35 extended centerline to the Southern Pacific Railroad track; thence southwest along the Southern Pacific Railroad track to a point 4 miles southwest of the Louis Armstrong New Orleans International Airport; thence counterclockwise along a 4-mile radius of the Louis Armstrong New Orleans International Airport to the north shore of the Mississippi River; thence east along the north shore of the Mississippi River to the Harvey VORTAC 300° radial; thence southeast along the Harvey VORTAC 300° radial to a point 7 miles southeast of the Louis Armstrong New Orleans International Airport; thence clockwise along the 7-mile radius of the Louis Armstrong New Orleans International Airport to the point of beginning.

Area D. That airspace extending upward from 2,000 feet MSL to and including 7,000 feet MSL within a 15-mile radius of the Louis Armstrong New Orleans International Airport, excluding that airspace within Areas A, B, and C previously described, that airspace within Area F described hereinafter, that airspace within the Lakefront Airport Class D airspace area, and that airspace within a 4.4-mile radius of New Orleans Naval Air Station Joint Reserve Base (Alvin Callender Field).

Area E. That airspace extending upward from 4,000 feet MSL to and including 7,000 feet MSL within a 20-mile radius of the Louis Armstrong New Orleans International Airport, excluding that airspace within Areas A, B, C, and D previously described, and that airspace within Area F described hereinafter.

Area F. That airspace extending upward from the surface to 1,000 feet MSL and from 2,000 feet MSL to 7,000 feet MSL 0.5 mile either side of a line extending from lat. 30°01′10″ N., long. 90°07′47″ W. to lat. 29°59′31″ N., long. 90°15′37″ W. to lat. 30°03′37″ N., long. 90°22′10″ W., excluding that airspace below 600 feet MSL north of the south shore of Lake Pontchartrain.

Issued in Washington, DC, on July 7, 2015.
Gary A. Norek,
Manager, Airspace Policy and Regulations Group.

[FR Doc. 2015-17709 Filed 7-17-15; 8:45 am]

BILLING CODE 4910-13-P